DEPARTMENT OF THE INTERIOR

Fish and Wildlife Service

[FWS-R6-ES-2012-N257; 60120-1113-0000; C2]

Endangered and Threatened Wildlife and Plants; Draft Revised Recovery Plan for Kendall Warm Springs Dace

AGENCY: Fish and Wildlife Service, Interior.

ACTION: Notice of document availability for review and comment.

SUMMARY: The U.S. Fish and Wildlife Service (Service) announces the availability of a draft revised recovery plan for the Kendall Warm Springs dace (Rhinichthys osculus thermalis). This species is federally listed as endangered under the Endangered Species Act of 1973, as amended (ESA). The Service solicits review and comment from the public on this draft revised plan.

DATES: Comments on the draft revised recovery plan must be received on or before February 25, 2013.

ADDRESSES: Copies of the draft revised recovery plan are available by request from the Wyoming Field Office, U.S. Fish and Wildlife Service, 5353 Yellowstone Road, Suite 308A, Cheyenne, WY 82009; telephone 307-772-2374. Submit comments on the draft recovery plan to the Field Supervisor at this same address. An electronic copy of the draft recovery plan is available at http://www.fws.gov/endangered/species/recovery-plans.html.

FOR FURTHER INFORMATION CONTACT: Field Supervisor, at the above address, or telephone 307-772-2374.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the ESA (16 U.S.C. 1531 et seq.); and provide estimates of the time and cost for implementing the needed recovery measures.

The ESA requires recovery plans for listed species unless such a plan would not promote the conservation of a particular species. Section 4(f) of the ESA, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

The Kendall Warm Springs dace (Rhinichthys osculus thermalis), found only in one location in western Wyoming, was first listed as endangered in 1970 under the Endangered Species Preservation Act of 1966 (80 Stat. 926; 16 U.S.C. 668aa(c)). It was later grandfathered into the ESA of 1973, as amended (16 U.S.C. 1531 et seq.). At the time of listing, the species was threatened by habitat destruction and modification, overexploitation, and limited distribution. Since the time of its listing, many recovery actions have been implemented, including taxonomic research, protection of habitat, cessation of the species' use as baitfish, and prohibitions against certain forms of mineral development. However, Kendall Warm Springs dace population estimates appear to be trending downward over the last decade. In addition, this fish remains vulnerable to some high-level threats. These include vulnerability to habitat changes from oil and gas development and potential competition and/or disease from the introduction of exotic species.

The recovery of the Kendall Warm Springs dace will depend on effective conservation responses to the varied and complex issues facing the species. These issues include limited distribution, exotic species, grazing, hydrologic changes, invasive plants, pollution, and energy resource exploration and development. Strategically, these issues can be reduced to two overriding concerns: potentially devastating effects from natural resource extraction and exotic species introductions. The recovery strategy for the Kendall Warm Springs dace focuses on the need to address vulnerability due to limited distribution; refugia populations; regulatory mechanisms; protecting habitat quality through a program that encompasses threats abatement; and population management, research, and monitoring. We emphasize the (1) incorporation of protective measures into land use plans; (2) protection of the spring's recharge zone; (3) establishment of two captive refugia populations; and (4) monitoring and managing population levels, genetics, and habitat conditions.

Request for Public Comments

The Service solicits public comments on the draft recovery plan. All comments received by the date specified in DATES will be considered prior to approval of the plan. Written comments and materials regarding the plan should be addressed to the Field Supervisor (see ADDRESSES section). Comments and materials received will be available, by appointment, for public inspection during normal business hours at the above address.

Authority

The authority for this action is section 4(f) of the Endangered Species Act, 16 U.S.C. 1533(f).

Dated: December 4, 2012.
Noreen E. Walsh,
Regional Director, Denver, Colorado.

[FR Doc. 2012-31011 Filed 12-21-12; 4:15 pm]

BILLING CODE 4310-55-P